DEPARTMENT OF TRANSPORTATION

Federal Aviation Administration

14 CFR Part 39

[Docket No. 2001-NM-282-AD; Amendment 39-12454; AD 2001-20-06]

RIN 2120-AA64

Airworthiness Directives; Airbus Model A300 B2 and B4 Series Airplane, and Model A300 B4-600, B4-600R, and F4-600R (Collectively Called A300-600) Series Airplanes

AGENCY: Federal Aviation Administration, DOT.

ACTION: Final rule; request for comments.

SUMMARY: This amendment supersedes an existing airworthiness directive (AD), applicable to certain Airbus Model A300 B2 and B4 series airplanes, and certain Model A300 B4-600, B4-60-R, and F4-600R (collectively called A300-600) series airplanes, that currently requires a one-time inspection to detect cracks in gear rib 5 (let and right) of the main landing gear (MLG) attachment fittings at the lower flange and vertical web, and repair if necessary. This amendment revises the applicability by including additional airplanes. The actions specified in this AD are intended to detect and correct fatigue cracking of the MLG attachment fittings, which could result in reduced structural integrity of the airplane.

DATES: October 19, 2001.

The incorporation by reference of certain publications listed in the regulations was approved previously by the Director of the Federal Register as of September 13, 2001 (66 FR 45581, August 29, 2001).

Comments for inclusion in the Rules Docket must be received on or before November 5, 2001.

ADDRESSES: Submit comments in triplicate to the Federal Aviation Administration (FAA), Transport Airplane Directorate, ANM-114, Attention: Rules Docket No. 2001-NM-282-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-MN-282-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., Suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On August 20, 2001, the FAA issued AD 2001-17-29, amendment 39-12420 (66 FR 45581, August 29, 2001), applicable to certain Airbus Model A300 B2 and B4 series airplanes, and certain Model A300 B4-600, B4-6004, and F4-600R (collectively called A300-600) series airplanes, to require a one-time inspection to detect cracks in gear rib 5 (left and right) of the main landing gear (MLG) attachment fittings at the lower flange and vertical web, and repair if necessary. That action was prompted by issuance of mandatory continuing airworthiness information by a foreign civil airworthiness authority. The actions required by that AD are intended to detect and correct fatigue cracking of the MLG attachment fittings, which could result in reduced structural integrity of the airplane.

Actions Since Issuance of Previous Rule

Since the issuance of that AD, the FAA has learned that three airplanes had been inadvertently omitted from the applicability. Airplanes having series number 789, 790, and 791 are also subject to the identified unsafe condition. This additional rulemaking is therefore necessary to correct this oversight and add those three airplane to the applicability of this AD.

FAA's Conclusions

These airplanes models are manufactured in France and are type certificated for operation in the United States under the provisions of section 21.29 of the Federal Aviation Regulations (14 CFR 21.29) and the applicable bilateral airworthiness agreement. Pursuant to this bilateral airworthiness agreement, the Direction Générale de 1 Aviation Civil (DGAC), which is the airworthiness authority for France, has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD supersedes AD-2001-17-29 to continue to require a on-time inspection to detect cracks in gear rib 5 (left and right) of the MLG attachment fittings at the lower flange and vertical web, and repair if necessary. This AD revises the applicability to include additional airplanes.

Difference Between AD and AOTs

The AOTs refer to Airbus Service Bulletins A300-57A0234 and A300-57A6087 for repair instructions. Those service bulletins specify that the manufacturer may be contacted for disposition of certain repair conditions. However, this AD requires the repair of those conditions to be accomplished in accordance with a method approved by either the FAA, or the DGAC (or its delegated agent). In light of the type of repair required to address the identified unsafe condition, and in consonance with existing bilateral airworthiness agreements, the FAA has determined that, for this AD, a repair approved by either the FAA or the DGAC is acceptable for compliance with this AD.

Interim Action

This is considered to be interim action. The manufacturer is gathering data that will enable it to obtain better insight into the nature, cause, and extent of the cracking, and eventually to develop final action to address the unsafe condition. Once final action has been identified, the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting fight safety and, thus, was not preceded by notice and an opportunity for public comment, comments are invited on this rule. Interested persons are invited to comment on this rule by submitting such written data, views, or arguments as they may desire. Communications shall identify the Rules Docket number and be submitted in triplicate to the addressed specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statements is made: “Comments to Docket 2001-NM-282-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12420 (66 FR 45581, August 29, 2001), and by adding a new airworthiness directive (AD), amendment 39-12454, to read as follows:

2001-20-06 Airbus Industrie: Amendment 39-12454. Docket 2001-NM-282-AD. Supersedes AD 2001-17-29, Amendment 39-12420.

Applicability: The following airplanes, certificated in any category:

Applicability

Model | Except
A300 B2 and A300 B4 series airplanes | Those modified in accordance with Airbus Service Bulletin A300-57-0235 (Modification 11932) or inspected in accordance with Airbus Service Bulletin A300-57A0234.
A300 B4-600, B4-600R, and F4-600R (collectively called A300-600) series airplanes | Those modified in accordance with Airbus Modification 11912 or Service Bulletin A300-57-6088 (Modification 11932) or inspected in accordance with Airbus Service Bulletin A300-57A6087.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct fatigue cracking of the attachment fittings of the main landing gear (MLG), which could result in reduced structural integrity of the airplane, accomplish the following:

Note 2: The inspection required by paragraph (a) of this AD is also included in the inspection requirement of paragraph (a) of AD 2000-05-07, amendment 39-11616. As indicated by the phrase, “unless accomplished previously,” for any airplane on which the initial inspection of AD-2000-05-07 has been accomplished before the effective date of this AD, the inspection specified by paragraph (a) of this AD is not required.

Restatement of Requirements of AD 2001-17-29

Inspection

(a) For airplanes subject to the requirements of AD 2001-17-29, amendment 39-12420: Before the accumulation of 7,500 total flight cycles, or within 100 flight cycles after September 13, 2001 (the effective date of AD 2001-17-29), whichever occurs later, perform a one-time detailed visual inspection to detect cracks in gear rib 5 (left and right) of the MLG attachment fittings at the lower flange and vertical web, in accordance with Airbus All Operators Telex (AOT) A300-57A0239 (for Model A300 B2 and B4 series airplanes) or A300-600-57A6094 (for Model A300-600 series airplanes), both dated August 2, 2001.

(1) If any cracking is detected and it is found at one hole only and does not extend out of the spotface of the hole: Prior to further flight, repair in accordance with the applicable AOT.

(2) If any cracking is detected and it is found at more than one hole or extends out of the spotface of any hole: Before further flight, repair in accordance with a method approved by the Manager, International Branch, ANM-116, FAA, Transport Airplane Directorate; or the Direction Générale de l' Aviation Civile (or its delegated agent).

Note 3: The AOTs refer to Airbus Service Bulletins A300-57A0234 (for Model A300 B2 and B4 series airplanes) and A300-57A6087 (for Model A300-600 series airplanes) as additional sources of service information for the inspection and repair of any cracking found during the inspection.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etec., may be used. Surface cleaning and elaborate access procedures may be required.”

New Requirements of This AD

Inspection

(b) For airplanes not identified in paragraph (a) of this AD: Before the accumulation of 7,500 total flight cycles, or within 100 flight cycles after the effective date of this AD, whichever occurs later, perform the inspection and applicable corrective actions specified by paragraph (a) of this AD.

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Except as required by paragraph (a)(2) of this AD: The actions must be done in accordance with Airbus All Operators Telex A300-57A0239, dated August 2, 2001; or Airbus All Operators Telex A300-600-57A6094, dated August 2, 2001; as applicable. This incorporation by reference was approved previously by the Director of the Federal Register as of September 13, 2001 (66 FR 45581, August 29, 2001). Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French telegraphic airworthiness directive T2001-364(B), dated August 2, 2001.

Effective Date

(f) This amendment becomes effective on October 19, 2001.

Issued in Renton, Washington, on September 27, 2001.
Charles Huber,
Acting Manager, Transport Airplane Directorate, Aircraft Certification Service.

[FR Doc. 01-24779 Filed 10-3-01; 8:45 am]

BILLING CODE 4910-13-P